DEPARTMENT OF COMMERCE

International Trade Administration

Ports and Marine Technology Trade Mission to India

February 2-6, 2015.

AGENCY: International Trade Administration, Department of Commerce.

ACTION: Notice.

SUMMARY: The United States Department of Commerce, International Trade Administration, Industry and Analysis is amending its notice for the India Ports and Marine Technology Trade Mission to India scheduled for November 9-15, 2014, published at 79 FR 14478, March 14, 2014, to notify potential applicants that the trade mission has been rescheduled for February 2-6, 2015.

Additional Information: On March 14, 2014, the International Trade Administration published a notice in the Federal Register (79 FR 14478) announcing an Executive-led trade mission to Kochi, Mumbai, and Ahmedabad, India with an optional stop in Goa, India to be held November 9-15, 2014. The notice provided that recruitment for the trade mission would begin immediately and applications received after August 15, 2014, would be considered only if space and scheduling constraints permit.

This notice confirms that the India Ports and Marine Technology Trade Mission to India is rescheduled for February 2-6, 2015. Recruitment for the mission will continue, and conclude on October 20, 2014. The U.S. Department of Commerce will review applications and make selection decisions on a rolling basis beginning June 23, 2014, until the maximum of 20 participants is selected. Applications received after October 20, 2014, will be considered only if space and scheduling constraints permit.

FOR FURTHER INFORMATION CONTACT: Hector Rodriguez, Office of Industry and Analysis, Trade Promotion Programs, Phone: 202-482-0629; Fax: 202-482-9000, Email: Hector.Rodriguez@trade.gov.

Elnora Moye,
Program Assistant.

[FR Doc. 2014-09896 Filed 4-30-14; 8:45 am]

BILLING CODE 3510-DR-P